Title 3—

The President

Presidential Determination No. 2004-20 of January 5, 2004

Eligibility of the Regional Security System (RSS) to Receive Defense Articles and Services under the Foreign Assistance Act and the Arms Export Control Act

Memorandum for the Secretary of State

Consistent with the provisions of section 503(a) of the Foreign Assistance Act of 1961, as amended, and section 3(a)(1) of the Arms Export Control Act, I hereby find that the furnishing of defense articles and services to the RSS will strengthen the security of the United States and promote world peace.

You are authorized and directed to report this finding to the Congress and to publish it in the Federal Register.

B

THE WHITE HOUSE,

Washington, January 5, 2004.

[FR Doc. 04-1027

Filed 1-14-04; 8:58 am]

Billing code 4710-10-P